DEPARTMENT OF STATE

[Public Notice 6854]

Certification Concerning the Bolivian Military and Police Under the Department of State, Foreign Operations, and Related Programs Appropriations Act, 2009 (Division H, Pub. L. 111-8)

Pursuant to the authority vested in the Secretary of State, including under the heading “International Narcotics Control and Law Enforcement” of the Department of State, Foreign Operations, and Related Programs Appropriations Act, 2009 (Division H, Pub. L. 111-8), I hereby certify that the Bolivian military and police are respecting internationally recognized human rights and cooperating fully with investigations and prosecutions by civilian judicial authorities of military and police personnel who have been credibly alleged to have violated such rights.

This Determination shall be transmitted to the Congress and published in the Federal Register.

Dated: December 16, 2009.
Hillary Rodham Clinton,
Secretary of State, Department of State.

[FR Doc. E9-30686 Filed 12-28-09; 8:45 am]

BILLING CODE 4710-29-P